DEPARTMENT OF ENERGY

Federal Energy Regulatory Commission

18 CFR 153

[Docket No. RM22-21-000]

Petition for Rulemaking

AGENCY: Federal Energy Regulatory Commission, Department of Energy.

ACTION: Notification of petition for rulemaking.

SUMMARY: Take notice that, on July 22, 2022, WWALS Watershed Coalition, Inc., LEAD Agency, Inc., Kissimmee Waterkeeper, Our Santa Fe River, Center for a Sustainable Coast, Three Rivers Waterkeeper, and Lumber Riverkeeper (collectively, Petitioners), pursuant to the Federal Energy Regulatory Commission's (Commission) Rules of Practice and Procedure, filed a petition requesting that the Commission conduct a rulemaking to revisit, consider, and modify the Commission's former decisions about inland liquefied natural gas (LNG) export facilities to require all LNG export facilities to be under Commission oversight.

DATES: Petition filed on July 22, 2022. Comments are due by 5 p.m. Eastern time on September 20, 2022.

ADDRESSES: Any person that wishes to comment in this proceeding must file comments in accordance with Rule 211 of the Commission's Rules of Practice and Procedure, 18 CFR 385.211. Comments will be considered by the Commission in determining the appropriate action to be taken. Comments must be filed on or before the comment date. The Commission strongly encourages electronic filings of comments in lieu of paper using the “eFile” link at https://www.ferc.gov. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

FOR FURTHER INFORMATION CONTACT: Daniel Vinnik, Office of the General Counsel, Federal Energy Regulatory Commission, 888 First Street NE, Washington, DC 20426. Ph 202-502-6460, Daniel.vinnik@ferc.gov.

SUPPLEMENTARY INFORMATION: In addition to publishing the full text of this document in the Federal Register, the Commission provides all interested persons an opportunity to view and/or print the contents of this document via the internet through the Commission's Home Page (https://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020.

Dated: July 22, 2022.
Kimberly D. Bose,
Secretary.

[FR Doc. 2022-16219 Filed 7-28-22; 8:45 am]

BILLING CODE 6717-01-M